DEPARTMENT OF DEFENSE

Office of the Secretary

[Docket ID DoD-2010-HA-0107]

Proposed Collection; Comment Request

AGENCY: Office of the Assistant Secretary of Defense for Health Affairs, DoD.

ACTION: Notice.

SUMMARY: In compliance with section 3506(c)(2)(A) of the Paperwork Reduction Act of 1995, the Office of the Assistant Secretary of Defense for Health Affairs announces a proposed new public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 5, 2010.

ADDRESSES: You may submit comments, identified by docket number and title, by any of the following methods:

• Federal eRulemaking Portal: http://www.regulations.gov. Follow the instructions for submitting comments.

• Mail: Federal Docket Management System Office, Room 3C843 Pentagon, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: Erika Elvander, 2345 Crystal Drive, Crystal Park 4, Suite 120, Arlington, VA 22202, or call (703) 604-5616.

Title; Associated Form; and OMB Number: Defense Centers of Excellence for Psychological Health and Traumatic Brain Injury Anti-Stigma Survey; OMB Control Number 0720-TBD.

Needs and Uses: The project aims to identify best practices in reducing stigma through information solicited from Anti-Stigma campaigns throughout the United States. Approximately 30 campaigns have been identified to receive a survey. The data/study will fill a gap in the scientific literature and further the Departments information and knowledge base relative to this important topic. The information collection requirement is necessary to identify effective efforts to reduce patient stigma associated with obtaining mental health treatment.

Affected Public: Not-for-profit institutions.

Annual Burden Hours: 7.5 hours.

Number of Respondents: 30.

Responses per Respondent: 1.

Average Burden per Response: 15 minutes.

Frequency: One time.

SUPPLEMENTARY INFORMATION:

Summary of Information Collection

As part of the Federal Partners Anti-Stigma Working Group, we propose a survey research study to determine the most and least effective techniques used to combat stigma related to mental illness. We plan to send letters to anti-stigma groups asking them to take part in an online survey. This survey will query the organizations about their outreach methods and the perceived effectiveness of their methods.

We plan to use the web-based tool Surveymonkey to reduce the cost and burden on the participants and ourselves. The data will be put into a statistical program and analyzed. We will use frequency analysis to see if there are any anti-stigma efforts that are identified as particularly effective or non-effective. Depending on the number of responses, we may use a regression analysis to identify the best predictors of a successful program. We will use statistical power analysis and hypothesis testing to determine the robustness of our results as well as the chance for type I and type II errors. We may also do more ad hoc analysis depending on the number and types of responses.

This study will fill a gap in the scientific literature. A recent search using the PsychInfo database showed no published studies or dissertations that surveyed multiple anti-stigma campaigns in the US seeking to identify best practices for reducing stigma.

We anticipate the risk to participants to be minimal. Responses will be shown in aggregate format only; there will be no personally identifying information published.

Dated: August 2, 2010.
Mitchell S. Bryman,
Alternate OSD Federal Register Liaison Officer, Department of Defense.

[FR Doc. 2010-19306 Filed 8-5-10; 8:45 am]

BILLING CODE 5001-06-P